INTERNATIONAL TRADE COMMISSION

[Investigation No. 731-TA-1092 (Final)]

Diamond Sawblades and Parts Thereof From China

AGENCY: United States International Trade Commission.

ACTION: Denial of a request to institute a section 751(b) review concerning the Commission's affirmative determination in investigation No. 731-TA-1092 (Final), Diamond Sawblades and Parts Thereof From China.

SUMMARY: The Commission hereby gives notice that it has declined to institute an investigation pursuant to section 751(b) of the Tariff Act of 1930 (19 U.S.C. 1675(b)) (the Act) to review the Commission's affirmative determination in investigation No. 731-TA-1092 (Final) because it is already conducting a full five-year review of the same order.

DATES: Effective Date: June 17, 2014.

FOR FURTHER INFORMATION CONTACT: Douglas Corkran (202-205-3057), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this matter may be viewed on the Commission's electronic docket (EDIS) at http://edis.usitc.gov.

SUPPLEMENTARY INFORMATION:

Background

On May 22, 2006, the Department of Commerce (Commerce) determined that imports of diamond sawblades and parts thereof from China and Korea were being sold in the United States at less than fair value within the meaning of section 731 of the Act (19 U.S.C. 1673) (71 FR 29303 and 71 FR 29310, respectively). The Commission initially determined that a U.S. industry was not materially injured or threatened with material injury by reason of imports of diamond sawblades and parts thereof from China and Korea (71 FR 39128, July 11, 2006).

Following an appeal of the negative determinations and on remand from the U.S. Court of International Trade (CIT), the Commission determined that a U.S. industry was threatened with material injury by reason of subject imports of diamond sawblades and parts thereof from China and Korea. On January 13, 2009, the CIT affirmed the Commission's affirmative determinations on remand. Diamond Sawblades Mfrs. Coalition v. United States, Slip Op. 09-05 (Ct. Int'l Trade 2009).

On February 10, 2009, Commerce published notice of the CIT's decision and suspended liquidation for entries of the subject merchandise after the effective date of the notice until the end of all appellate proceedings (74 FR 6570). On November 4, 2009, Commerce published orders that antidumping duties be imposed on imports of diamond sawblades and parts thereof from China and Korea, effective January 23, 2009 (74 FR 57145).

Following affirmance of the CIT's judgment by the U.S. Court of Appeals for the Federal Circuit and upon conclusion of all appellate proceedings in the action, the Commission published notice of its final determinations in the antidumping investigations of diamond sawblades and parts thereof from China and Korea (75 FR 68618, November 8, 2010). Commerce revoked the order on diamonds sawblades from Korea effective as of October 24, 2011 (76 FR 66892, Oct. 28, 2011).

On July 11, 2013, the Commission received a request to review its affirmative determination in investigation No. 731-TA-1092 (Final) pursuant to section 751(b) of the Act (19 U.S.C. 1675(b)). The request, filed by Husqvarna Construction Products North America, Inc. (Husqvarna) of Olathe, Kansas, argued that there were several changes since the issuance of the Commission's remand determination. Specifically, Husqvarna noted Commerce's revocation of the antidumping duty order on imports of diamond sawblades and parts thereof from Korea; additional Commerce determinations with respect to Chinese exporter Advanced Technology & Materials Co., Ltd.; the acquisition of certain petitioners by non-U.S. producers of diamond sawblades, as well as changes in those petitioners' patterns of sourcing diamond sawblades; an alleged reduction in the overlap of competition between subject imports from China and the domestic like product as a result of the preceding changes; and opposition to the continuation of the order on diamond sawblades and parts thereof from China by a “significant part of U.S. production.”

On August 9, 2013, the Commission published a Federal Register notice inviting comments from the public on whether changed circumstances exist sufficient to warrant the institution of changed circumstances reviews (78 FR 48717-48718, Aug. 9, 2013). In response to its Federal Register notice soliciting comments, the Commission received one submission on behalf of the Diamond Sawblades Manufacturing Coalition (DSMC), an ad hoc group of U.S. producers of diamond sawblades and the petitioning coalition in the original antidumping duty investigation, arguing that the Commission should not institute a changed circumstances review investigation.

On December 2, 2013, Commerce initiated, and the ITC instituted, five-year sunset reviews of the antidumping duty order on diamond sawblades and parts thereof from China (78 FR 72061 & 78 FR 72216, Dec. 2, 2013). On May 20, 2014, the Commission determined to conduct a full five-year sunset review of the order.

On April 23, 2014, the Commission determined not to conduct a changed circumstances review investigation of the antidumping duty order on diamond sawblades and parts thereof from China.¹ Given the fact that the Commission was concurrently conducting a five-year review of the antidumping duty order on diamond sawblades and parts thereof from China, and was aware of the arguments that supported conducting a full review of the order, the Commission determined that conducting a changed circumstances review was unwarranted because it would be duplicative of a full five-year review. See Eveready Battery Co., Inc. v. United States, 77 F. Supp. 2d 1327 (CIT 1999) (finding that a request for a changed circumstances review was rendered moot by the Commission's institution of a full five-year sunset review).

¹ Commissioner Aranoff, whose tenure at the Commission ended on April 4, 2014, did not participate in this matter.

Authority: This notice is published pursuant to section 207.45 of the Commission's rules.

By order of the Commission.
Issued: June 17, 2014.
Lisa R. Barton,
Secretary to the Commission.

[FR Doc. 2014-14561 Filed 6-20-14; 8:45 am]

BILLING CODE 7020-02-P